DEPARTMENT OF HEALTH AND HUMAN SERVICES

Centers for Medicare & Medicaid Services

[Document Identifier: CMS-367]

Agency Information Collection Activities: Submission for OMB Review; Comment Request; Partial Retraction

ACTION: Notice, partial retraction

SUMMARY: On Friday, November 24, 2006 (71 FR 67873), the Centers of Medicare & Medicaid Services (CMS) published a Notice document titled “Agency Information Collection Activities; Proposed Collection; Comment Request”. That notice invited public comments on three separate information collections. Through the publication of this document, CMS is retracting the portion of that notice requesting public comment on the Information Collection Requirement titled “Medicaid Drug Program Monthly Quarterly Drug Reporting Format”, form number CMS-367 (OMB # 0938-0578).

Dated: December 12, 2006.
Michelle Shortt,
Director, Regulations Development Group, Office of Strategic Operations and Regulatory Affairs.

[FR Doc. 06-9786 Filed 12-15-06; 1:45 pm]

BILLING CODE 4120-01-P